FEDERAL COMMUNICATIONS COMMISSION

47 CFR Part 73

[GN Docket No. 12-268; FCC 14-50]

Expanding the Economic and Innovation Opportunities of Spectrum Through Incentive Auctions

AGENCY: Federal Communications Commission.

ACTION: Final rule; announcement of effective date.

SUMMARY: In this document, the Commission announces that the Office of Management and Budget (OMB) approved on April 9, 2015, for a period for three years, an information collection for FCC Form 2100, Application for Media Bureau Audio and Video Service Authorization, contained in the Report and Order, FCC 14-50. This document is consistent with the Report and Order, which stated that the Commission would publish a document in the Federal Register announcing OMB approval and the effective date of the requirements.

DATES: 47 CFR 73.3700(b)(3) and FCC Form 2100, Schedule F, published at 79 FR 48442, August 15, 2014, are effective on April 24, 2015.

FOR FURTHER INFORMATION CONTACT: For additional information contact Cathy Williams, Cathy.Williams@fcc.gov, (202) 418-2918.

SUPPLEMENTARY INFORMATION: This document announces that, on April 9, 2015, OMB approved the information collection requirements for FCC Form 2100, Application for Media Bureau Audio and Video Service Authorization, Schedule F and 47 CFR 73.3700(b)(3), published at 79 FR 48442 on August 15, 2014. The OMB Control Number is 3060-0928. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-0928, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on April 9, 2015, for the information collection requirements contained in the information collection 3060-0928.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0928. The foregoing document is required by the Paperwork Reduction Act of 1995, Pub. L. 104-13, October 1, 1995, and 44 U.S.C. 3507.

The total annual reporting burdens and costs for the respondents are as follows:

OMB Control Number: 3060-0928.

OMB Approval Date: April 9, 2015.

OMB Expiration Date: April 30, 2018.

Title: FCC Form 2100, Application for Media Bureau Audio and Video Service Authorization, Schedule F (Formerly FCC 302-CA); 47 CFR 73.3572(h) and 47 CFR 73.3700.

Form No.: FCC Form 2100, Schedule F.

Respondents: Business or other for profit entities; Not for profit institutions; State, local or Tribal government.

Number of Respondents and Responses: 521 respondents; 521 responses.

Estimated Time per Response: 2 hours.

Frequency of Response: On occasion reporting requirement; one-time reporting requirement.

Obligation to Respond: Required to obtain or retain benefits. The statutory authority for this information collection is contained in sections 154(i), 307, 308, 309 and 319 of the Communications Act of 1934, as amended.

Total Annual Burden: 1,042 hours.

Total Annual Cost: $148,485.

Privacy Act Impact Assessment: No impact(s).

Nature and Extent of Confidentiality: There is no need for confidentiality with this collection of information.

Needs and Uses: In the Notice of Proposed Rulemaking (NPRM), FCC 12-118, released by the Commission on October 2, 2012, it is proposed that, following the completion of the incentive auction process, all channel sharing Class A stations will need to file FCC Form 302-CA (now renamed FCC Form 2100, Schedule F) for their shared channel facility. The NPRM adopts the following proposed information collection requirements:

47 CFR 73.3700—Channel sharing Class A stations will need to file FCC Form 302-CA (now renamed FCC Form 2100, Schedule F) for their shared channel facility.

Federal Communications Commission.
Sheryl D. Todd,
Deputy Secretary. Office of the Secretary, Office of the Managing Director.

[FR Doc. 2015-09593 Filed 4-23-15; 8:45 am]

BILLING CODE 6712-01-P